DEPARTMENT OF TRANSPORTATION

Pipeline and Hazardous Materials Safety Administration

International Standards on the Transport of Dangerous Goods; Public Meeting

AGENCY: Pipeline and Hazardous Materials Safety Administration (PHMSA), Department of Transportation.

ACTION: Notice of public meeting.

SUMMARY: This notice is to advise interested persons that PHMSA will conduct a public meeting in preparation for the 36th session of the United Nations Sub-Committee of Experts on the Transport of Dangerous Goods (UNSCOE TDG) to be held November 30-December 9, 2009 in Geneva, Switzerland. During this meeting, PHMSA is also soliciting comments relative to potential new work items which may be considered for inclusion in its international agenda.

Information Regarding The UNSCOE TDG Meeting

DATES: Tuesday, November 10, 2009; 9:30 a.m.-12:30 p.m.

ADDRESSES: The meeting will be held at the DOT Headquarters, West Building, 1200 New Jersey Avenue, SE., Washington, DC 20590.

Conference Call Capability/Live Meeting Information: Conference call-in and “live meeting” capability will be provided for this meeting. Specific information on call-in and live meeting access will be posted when available at http://www.phmsa.dot.gov/regs/international.

FOR FURTHER INFORMATION CONTACT: Mr. Duane Pfund, Director, Office of International Standards or Mr. Shane Kelley, International Transportation Specialist, Office of Hazardous Materials Safety, Department of Transportation, Washington, DC 20590; (202) 366-0656.

SUPPLEMENTARY INFORMATION: The primary purpose of this meeting will be to prepare for the 36th session of the UNSCOE TDG, which is the second meeting of the current 2009-2010 biennium. The UNSCOE will consider proposals for the 17th Revised Edition of the United Nations Recommendations on the Transport of Dangerous Goods Model Regulations which will come into force in the international regulations beginning January 1, 2013. Topics on the agenda for the UNSCOE TDG meeting include:

• Explosives and related matters.

• Listing, classification and packing.

• Electric storage systems.

• Miscellaneous proposals of amendments to the Model Regulations on the Transport of Dangerous Goods.

• Electronic data interchange (EDI) for documentation purposes.

• Cooperation with the International Atomic Energy Agency (IAEA).

• Global harmonization of transport of dangerous goods regulations with the Model Regulations.

• Guiding principles for the Model Regulations.

• Issues relating to the Globally Harmonized System of Classification and Labelling of Chemicals (GHS).

In addition, PHMSA is soliciting comments on how to further enhance harmonization for international transport of hazardous materials. PHMSA has finalized a broad international strategic plan and welcomes input on items which stakeholders believe should be included as specific initiatives within this plan. PHMSA's Office of International Standards Strategic Plan can be accessed at: http://www.phmsa.dot.gov/hazmat/regs/international.

The public is invited to attend without prior notification. Due to the heightened security measures participants are encouraged to arrive early to allow time for security checks necessary to obtain access to the building. Following the 36th session of the UNSCOE TDG, PHMSA will place a copy of the Sub-Committee's report and a summary of the results on PHMSA's Hazardous Materials Safety Homepage at http://www.phmsa.dot.gov/hazmat/regs/international.

Documents

Copies of documents for the UNSCOE TDG meeting and the meeting agenda may be obtained by downloading them from the United Nations Transport Division's Web site at: http://www.unece.org/trans/main/dgdb/dgsubc/c32009.html. PHMSA's site at http://www.phmsa.dot.gov/hazmat/regs/international also provides additional information regarding the UNSCOE TDG and related matters such as summaries of decisions taken at previous sessions of the UNSCOE TDG.

Dr. Magdy El-Sibaie,
Acting Deputy Associate Administrator for Hazardous Materials Safety.

[FR Doc. E9-24891 Filed 10-16-09; 8:45 am]

BILLING CODE 4910-60-M